DEPARTMENT OF HEALTH AND HUMAN SERVICES

Centers for Disease Control and Prevention

[Program Announcement 00066]

Using Private Provider Partnerships To Strengthen the Immunization Message; Notice of Availability of Funds

A. Purpose

The Centers for Disease Control and Prevention (CDC) announces the availability of fiscal year (FY) 2000 funds for a cooperative agreement program with national private provider organizations to inform their constituency on immunization issues, identify best practices and successful immunization programs, promote the improvement of immunization coverage in primary care settings, enhance and create partnerships with, State and local health departments, non-governmental organizations, and other professional organizations to collaborate on immunization programs around the country. This program addresses the “Healthy People 2010,” a national activity to reduce morbidity and mortality and improve the quality of life. This announcement is related to the focus area of Immunization and Infectious Diseases. For a conference copy of “Healthy People 2010,” visit the internet site: http://www.health.gov/healthypeople.

This cooperative agreement will:

1. Establish partnerships with national private provider organizations and associations to effectively utilize the combined resources of the public and private health care delivery systems.

2. Establish a mechanism to promote successful immunization programs, distribute current immunization information to the recipients constituency, and to gather information regarding the status of current programs at the grass-roots level.

3. Obtain access to the recipient organization for the purpose of promoting the goals and objectives of the National Immunization Program.

B. Eligible Applicants

Assistance will be provided to non-profit tax-exempt national private provider professional associations with active memberships of at least 3,000 health care providers who's members provide primary care services to preschool-aged children, adolescents, and/or adults. Tax-exempt status may be confirmed by either providing a copy of the pages from the Internal Revenue Service's (IRS most recent list of 501(c)(3) tax-exempt organizations or a copy of the current IRS Determination Letter. Proof of tax-exempt status must be provided in the application.

Note: Public Law 104-65 states that an organization described in section 501(c)(4) of the Internal Revenue Code of 1986 that engages in lobbying activities is not eligible to receive Federal funds constituting an award, grant, cooperative agreement, contract, loan, or any other form.

C. Availability of Funds

Approximately $450,000 will be available to fund up to five cooperative agreements. It is expected that the average award will range from $100,000 to $150,000. It is expected that this award will begin on or about September 30, 2000, and will be made for a 12-month budget period within a project period of up to three years. Funding estimates may change.

Continuation awards within an approved project period will be made on the basis of satisfactory progress as evidenced by required reports and the availability of funds.

Use of Funds

Funds cannot be used for construction or renovation, to purchase or lease vehicles or vans, to purchase a facility to house project staff or carry out project activities, or to substitute new activities and expenditures for current ones.

D. Program Requirements

In conducting activities to achieve the purpose of this Cooperative Agreement, the recipient will be responsible for achieving the activities under Item 1. Recipient Activities. The CDC will be responsible for activities under Item 2. CDC Activities.

1. Recipient Activities

A. Utilize recommendations by the National Immunization Program (NIP), Advisory Committee on Immunization Practice (ACIP), American College of Physicians (ACP), American Academy of Pediatrics (AAP), and the American Academy of Family Physicians (AAFP) to create and distribute new materials to promote the understanding, adoption, and use of those recommendations by the health care providers, parents, and patients.

B. Establish and implement mechanisms for promoting effective immunization practices and programs and support the incorporation of such practices within the facilities operated by your affiliates.

C. Establish and implement a mechanism for distribution of current immunization news, practices, and strategies to health care providers within your constituency.

D. Participate in the planning of your organization's conferences and meetings on the National, regional, and State levels to ensure that appropriate priority is placed on strategies and model programs that increase immunization coverage levels.

E. Establish and implement mechanisms for evaluating the effectiveness of communication with your constituency, regarding increased awareness, knowledge, and participation in immunization programs, and the practice of health care provider affiliates.

2. CDC Activities

A. Provide technical assistance in implementing activities, identifying major immunization issues, effective programs, and assist with setting program priorities as related to the cooperative agreement.

B. Provide scientific collaboration for appropriate aspects of the activities, including information on disease impact, vaccination coverage levels, and prevention strategies.

C. Assist in the review of relevant immunization information.

D. Assist the recipient in evaluating the reach of the program and effectiveness of the materials produced.

E. Application Content

Use the information in the Program Requirements, Other Requirements, and Evaluation Criteria sections to develop the application content. Applications will be evaluated on the criteria listed, so it is important to follow them in laying out the program plan. The application should be no more than 35 double-spaced pages, printed on one side, with one inch margins, and 12 point font not including attachments.

Organization Profile

A. Provide a narrative, including background information and information on the applicant organization, evidence of relevant experience in coordinating activities among constituents, and a clear understanding of the purpose of the project.

B. Include details of past experiences working with your constituency regarding promotion and education of immunization issues. Provide information on organizational capability to conduct proposed project activities.

C. Profile qualified and experienced personnel who are available to work on the project and provide evidence of an organizational structure that can meet the terms of the project. Include an organizational chart of the applicant organization specifying the location and staffing plan for the proposed project.

Program Plan

A. Include goals and measurable impact and process objectives that are specific, realistic, and time-phased. Include an explanation of how the objectives contribute to the purposes of the request for assistance and evidence that demonstrates the potential effectiveness of the proposed objectives.

B. Detail an action plan, including a timeline of activities and personnel responsible for implementing each segment of the plan.

C. Prepare a plan to include impact and process evaluation utilizing both quantitative and qualitative measures for the achievement of program objectives to determine the reach and effectiveness of the message promoted by the grantee, and monitor the implementation of proposed activities. Indicate how the quality of services provided will be ensured.

D. Provide a plan for disseminating project results indicating when, to whom, and in what format the material will be presented.

E. Provide a plan for obtaining additional resources from non-federal sources to supplement program activities and ensure continuation of the activities after the end of the project period.

Collaboration Activities

A. Obtain and include letters of support from local organizations and constituents indicating or committing to support the activities of this program.

B. Provide any memoranda of agreement from collaborating organizations indicating a willingness to participate in the project, the nature of their participation, period of performance, names and titles of individuals who will be involved in the project, and the process of collaboration. Each memorandum should also show an understanding and endorsement of immunization activities.

C. Provide evidence of collaborative efforts with health departments, provider organizations, coalitions, and other local organizations.

Budget Information

Provide a detailed budget with justification. The budget proposal should be consistent with the purpose and program plan of the proposed project.

F. Submission and Deadline

Submit the original and two copies of the application PHS 5161-1, (OMB Number 0937-0189). Forms are available at the following Internet address: www.cdc.gov/* * *Forms, or the application kit.

On or before July 6, 2000, submit the application to the Grants Management Specialist identified in the “Where to Obtain Additional Information” section of this announcement.

Deadline

Applications shall be considered as meeting the deadline if they are either:

A. Received on or before the deadline date; or

B. Sent on or before the deadline date and received in time for submission to the independent review group. (Applicants must request a legibly dated U.S. Postal Service postmark or obtain a legibly dated receipt from a commercial carrier or U.S. Postal Service. Private metered postmarks shall not be acceptable as proof of timely mailing.)

Late Applications

Applications which do not meet the criteria in (a) or (b) above are considered late applications, will not be considered, and will be returned to the applicant.

G. Evaluation Criteria

Each application will be evaluated individually against the following criteria by an independent review group appointed by CDC.

1. Background and Need: The extent to which the applicant understands the problem of under-immunization and proposes a plan to address the issues specific to their constituents (20 points)

2. Capability: The extent to which the applicant appears likely to succeed in implementing proposed activities as measured by relevant past experience, a sound management structure, and staff qualifications, including the appropriateness of their proposed roles and responsibilities and job descriptions.(40 points)

The applicant must:

a. Have a demonstrated history of a constituency that provides immunization services including services to under-served, low-income, or minority populations.

b. Have a system in place for communicating with their constituents and providing them information in a timely manner.

3. Program Plan: The feasibility and appropriateness of the applicant's action plan to identify immunization issues and new developments, communicate with and reach targeted populations, and translate technical immunization information into appropriate formats. (30 points)

4. Evaluation Plan: The extent to which the applicant proposes to evaluate the proposed plan, including impact and process evaluation, as well as quantitative and qualitative measures for achievement of program objectives, determining the improvement in level of immunization knowledge among your constituency, identify improvements made in immunization delivery by providers within your constituency, and monitoring the implementation of proposed activities. (10 points)

5. Budget and Justification: The extent to which the proposed budget is adequately justified, reasonable, and consistent with the proposed project activities and this program announcement. (Not Scored)

H. Other Requirements

Provide CDC with original plus two copies of:

1. Progress reports (semiannual) The CDC will provide specific guidelines for documenting and reporting on program activities.

2. Financial Status Reports, no more than 90 days after the end of the budget period; and

3. Final financial and performance reports, no more than 90 days after the end of the project period.

Send all reports to the Grants Management Specialist identified in the “Where to Obtain Additional Information” section of this announcement.

The following additional requirements are applicable to this program. For a complete description of each, see Addendum I in the application kit.

AR-10—Smoke-Free Workplace

AR-11—Healthy People 2010

AR-12—Lobbying Restriction

AR-14—Accounting System Requirements

AR-15—Proof of Non-Profit Status

AR-20—Conference Support

I. Authority and Catalog of Federal Domestic Assistance Number

This program is authorized under section 311 [42 U.S.C. 243] and 317 (k)(2) [42 U.S.C. 247b (k) (2)] of the Public Health Service Act as amended. The Catalog of Federal Domestic Assistance number is 93.185.

J. Where to Obtain Additional Information

This and other CDC announcements may be downloaded through the CDC homepage on the Internet at http://www.cdc.gov (Click on funding). Please refer to Program Announcement Number 00066 when requesting information. To receive additional written information and to request an application kit, call 1-888-GRANTS4 (1-888 472-6874). You will be asked to leave you name and address and will be instructed to identify the Announcement number of interest.

If you have questions after reviewing the contents of all the documents, business management technical assistance may be obtained from: Mattie B. Jackson, Grants Management Specialist, Grants Management Branch, Procurement and Grants Office, Centers for Disease Control and Prevention 2920 Brandywine Rd., Room 3000, Atlanta, GA 30341-4146, Telephone: (770) 488-2718, Email Address: mij3@cdc.gov.

For program technical assistance, contact: Duane Kilgus, Community Outreach and Planning Branch, Immunization Services Division, National Immunization Program, Centers for Disease Control and Prevention, 1600 Clifton Road, M/S E-52, Atlanta, Georgia 30333, Telephone: (404) 639-8784, Email address—dgk9@cdc.gov.

Dated: April 25, 2000.
Henry S. Cassell III,
Acting Director, Procurement and Grants Office, Centers for Disease Control and Prevention (CDC).

[FR Doc. 00-10733 Filed 4-28-00; 8:45 am]

BILLING CODE 4163-18-P